ENVIRONMENTAL PROTECTION AGENCY

40 CFR Part 720

[OPPT-2003-0058; FRL-7692-3]

RIN 2070-AJ04

TSCA Inventory Nomenclature for Enzymes and Proteins; Extension of Comment Period

AGENCY: Environmental Protection Agency (EPA).

ACTION: Advance Notice of Proposed Rulemaking (ANPR); extension of comment period.

SUMMARY: This document extends the public comment period established for the ANPR in the Federal Register issued on November 15, 2004 (69 FR 65565). In that ANPR, EPA alerted stakeholders that it was considering changing procedures and requirements for naming enzymes and proteins for the purpose of listing those substances on the TSCA Inventory. More specifically, the ANPR outlined four identification elements that EPA currently believes are appropriate for use in developing unique TSCA Inventory nomenclature for proteinaceous enzymes. The ANPR also solicited public comment on several specific questions relating to the initiative.

DATES: Comments, identified by docket identification (ID) number OPPT-2003-0058, must be received on or before January 30, 2005.

ADDRESSES: Follow the detailed instructions as provided under ADDRESSES in the Federal Register document of November 15, 2004.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: James Alwood, Chemical Control Division, (7405M), Office of Pollution Prevention and Toxics, Environmental Protection Agency, 1200 Pennsylvania Ave., NW., Washington, DC 20460-0001; telephone number: (202) 564-8974; e-mail address: alwood.jim@epa.gov.

SUPPLEMENTARY INFORMATION:

I. General Information

A. Does this Action Apply to Me?

The Agency included in the ANPR a list of those who may be potentially affected by this action. If you have questions regarding the applicability of this action to a particular entity, consult the person listed under the FOR FURTHER INFORMATION CONTACT.

B. How Can I Access Electronic Copies of this Document and Other Related Information

In addition to using EDOCKET (http://www.epa.gov/edocket/), you may access this Federal Register document electronically through the EPA Internet under the “Federal Register” listings at http://www.epa.gov/fedrgstr/. A frequently updated electronic version of 40 CFR part 720 is available on E-CFR Beta Site Two at http://www.gpoaccess.gov/ecfr/.

II. What Action is EPA taking?

This document extends the public comment period established in the Federal Register issued on November 15, 2004 (69 FR 65565) (FRL-7342-2). In that document, EPA alerted stakeholders that it was considering changing procedures and requirements for naming enzymes and proteins for the purpose of listing those substances on the TSCA Inventory. EPA is hereby extending the comment period, which was set to end on December 15, 2004, to January 30, 2005.

III. What is the Agency's Authority for Taking this Action?

Section 8(b) of TSCA requires EPA to “compile, keep current, and publish a list of each chemical substance which is manufactured or processed in the United States” (the TSCA Inventory). In order to fulfill this requirement, EPA must continuously update and keep current various types of information, including, but not limited to, the information used to identify any new chemical substance that is reported to be manufactured or processed in the United States. EPA must also make corrections, when necessary, of previously reported information on the TSCA Inventory.

IV. Do Any Statutory and Executive Order Reviews Apply to this Action?

No. This action is not a rulemaking, it merely extends the date by which public comments must be submitted to EPA for an ANPR that previously published in the Federal Register of November 15, 2004 (69 FR 65565). For information about the applicability of the regulatory assessment requirements to the ANPR, please refer to the discussion in Unit IV. of that document (69 FR 65565).

List of Subjects in 40 CFR Part 720

Environmental protection, Chemicals, Hazardous substances, Reporting, and recordkeeping requirements.

Dated: December 13, 2004.
Susan B. Hazen,
Acting Assistant Administrator, Office of Prevention, Pesticides and Toxic Substances.

[FR Doc. 04-27642 Filed 12-14-04; 3:04 pm]

BILLING CODE 6560-50-S